DEPARTMENT OF HEALTH AND HUMAN SERVICES

Centers for Disease Control and Prevention

Board of Scientific Counselors, Office of Infectious Diseases (BSC, OID)

In accordance with section 10(a)(2) of the Federal Advisory Committee Act (Pub. L. 92-463), the Centers for Disease Control and Prevention (CDC), announces the following meeting of the aforementioned committee:

Time and Date: 10:30 a.m.-12 p.m., November 15, 2010.

Place: Teleconference.

Status: Open to the public, the toll free dial in number is 1(800)369-1755 with a pass code of 8481618.

Purpose: The BSC, OID, shall advise the Secretary, Department of Health and Human Services; the Director, CDC; the Director, OID; and the Directors of the National Center for Immunization and Respiratory Diseases, the National Center for Emerging and Zoonotic Infectious Diseases, and the National Center for HIV/AIDS, Viral Hepatitis, STD, and TB Prevention, CDC, concerning strategies, goals, and priorities for the programs and research within the national centers and monitor the overall strategic direction and focus of OID and the national centers.

Matters To Be Discussed: The meeting will involve the presentation of a draft document being developed to advance CDC's infectious disease priorities. A subsequent meeting to solicit further discussion and input on the document from the board is currently scheduled for December 6, 2010 and will be announced at a future date.

Requests for a copy of the draft document may be sent to ddidinput@cdc.gov prior to the teleconference.

Agenda items are subject to change as priorities dictate.

Contact Person for More Information: Robin Moseley, CDC, OID, 1600 Clifton Road, NE., Mailstop D-10, Atlanta, Georgia 30333, telephone (404) 639-4461.

The Director, Management and Analysis Services Office, has been delegated the authority to sign the Federal Register notices pertaining to announcements of meetings and other committee management activities for both CDC and the Agency for Toxic Substances and Disease Registry.

Dated: October 22, 2010.
Elaine L. Baker,
Director, Management Analysis and Services Office, Centers for Disease Control and Prevention.

[FR Doc. 2010-27462 Filed 10-28-10; 8:45 am]

BILLING CODE 4163-18-P